DEPARTMENT OF COMMERCE

National Oceanic and Atmospheric Administration

50 CFR Part 224

RIN 0648-XV30

Endangered and Threatened Species; Extension of Public Comment Period on Proposed Range Extension for Coho Salmon South of San Francisco Bay

AGENCY: National Marine Fisheries Service (NMFS), National Oceanic and Atmospheric Administration (NOAA), Commerce.

ACTION: Proposed rule; extension of public comment period.

SUMMARY: We, NMFS, are extending the date by which public comments are due concerning the proposed rule to extend the southern boundary of the endangered Central California Coast (CCC) coho salmon Evolutionarily Significant Unit (ESU) southward from its current boundary at the San Lorenzo River to include Soquel and Aptos Creeks in Santa Cruz County, California. On February 4, 2011, we published a proposed rule in the Federal Register to extend the southern boundary of this ESU and announced a public comment period to end on April 5, 2011. Today we extend the public comment period to June 6, 2011.

DATES: The deadline for receipt of comments on the proposed rule published on February 4, 2011, (76 FR 6383), is extended from April 5, 2011, to June 6, 2011, at 5 p.m. Pacific Daylight Time.

ADDRESSES: You may submit comments on the proposed range extension, identified by the RIN 0648-XV30, by any of the following methods:

• Electronic Submissions: Submit all electronic public comments via the Federal eRulemaking Portal http://www.regulations.gov. Follow the instructions for submitting comments.

• Mail: Submit written comments to the Assistant Regional Administrator, Protected Resources Division, Attn: Craig Wingert, Southwest Region, National Marine Fisheries Service, 501 W. Ocean Blvd., Suite 4200, Long Beach, CA 90802-4213.

• Fax: (562) 980-4027; Attn: Craig Wingert.

All comments received are a part of the public record. Comments will generally be posted without change. All Personal Identifying Information (for example, name, address, etc.) voluntarily submitted by the commenter may be publicly accessible. Do not submit Confidential Business Information or otherwise sensitive or protected information. We will accept anonymous comments (enter N/A in the required fields, if you wish to remain anonymous). You may submit attachments to electronic comments in Microsoft Word, Excel, WordPerfect, or Adobe PDF file formats only.

A copy of our 12-month finding and proposed range extension and other relevant information may be obtained by submitting a request to the Assistant Regional Administrator, Protected Resources Division, Attn: Craig Wingert, Southwest Region, National Marine Fisheries Service, 501 W. Ocean Blvd., Suite 4200, Long Beach, CA 90802-4213 or from the Internet at http://swr.nmfs.noaa.gov/.

FOR FURTHER INFORMATION CONTACT: Craig Wingert, NMFS Southwest Region, (562) 980-4021; or Dwayne Meadows, NMFS Office of Protected Resources, Silver Spring, MD, (301) 713-1401.

SUPPLEMENTARY INFORMATION:

Background

On February 4, 2011 (76 FR 6383), we published a proposed rule to extend the boundary of the endangered CCC coho salmon ESU from its current boundary at the San Lorenzo River southward to include Soquel and Aptos Creeks which are located in Santa Cruz County, CA. The proposed rule also concluded that this redefined ESU continues to be endangered.

We received one request to extend the current public comment period on the rule to accommodate review of the proposed rule and all the supporting documentation. We have considered this request and conclude that a 60-day extension is appropriate and will not delay this rulemaking process. Accordingly, we are extending the public comment period to June 6, 2011, to allow additional time for public comment.

Authority: 16 U.S.C. 1533 et seq.

Dated: March 18, 2011.
Helen Golde,
Deputy Director, Office of Protected Resources, National Marine Fisheries Service.

[FR Doc. 2011-7019 Filed 3-23-11; 8:45 am]

BILLING CODE 3510-22-P